FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

A.D.S. Air & Ocean Freight, LLC, 11155 NW 33 Street, Doral, FL 33172. Officers: Karen A. Diaz, General Manager, (Qualifying Individual).

Global Partner Alliance, Inc., 703 Foster Ave., Frnt A, Bensenville, IL 60106. Officers: Jakub Ligeza, President, (Qualifying Individual). Michal Gaglewski, President.

Cairo Forwarding, Inc., 807 Briarwood Drive, Haverhill, FL 33415. Officers: Ernesto Fernandez, Director, (Qualifying Individual). Miroslava Fernandez, President.

Four Points Ocean Inc., 505 Thornall Street, Ste. 420, Edison, NJ 08837. Officers: Joseph P. Felitto, President, (Qualifying Individual), Raymond Boudart, Vice President.

OTS USA, Inc. 150-32 132nd Avenue, Jamaica, NY 11434. Officer: Guido Zehnder, Vice President, (Qualifying Individual).

J & D America Inc., 248 W. 35th Street, 14th Floor, New York, NY 10001. Officers: Yeong S. Shim, President, (Qualifying Individual). Byung S. Kim, Vice President.

Premier Van Lines Inc., 3953 South 200 East, Salt Lake City, UT 84107. Officer: James A. Haddow, President, (Qualifying Individual).

Non-Vessel Operating Common Carrier and Ocean Freight Forwarder Transportation Intermediary Applicants

Bekins Independence Forwarders, Inc., 330 So. Mannheim Road, Hillside, IL 60162. Officer: Michael Petersen, President.

Skyline Customs Services, LLC, 1555 N. Treasure Drive, #211, No. Bay Village, FL 33141. Officers: Cintia Altheman, General Manager, (Qualifying Individual). Rodrigo A. Pacheco, Partner.

Posey International Inc., 7218 Clinton Drive, Houston, TX 77020. Officer: Jesse Villarreal, President, (Qualifying Individual).

Nautica Cargo Services Inc. dba Navinsa Line, 7911 N.W. 72 Ave., #219-B, Miami, FL 33166. Officer: Vivian Gonzalez, President, (Qualifying Individual).

Nuco Logistics, Inc., One World Trade Center, Ste. 1890, Long Beach, CA 90831. Officer: Wendy Gabbard, Corp. Officer/Secretary. (Qualifying Individual).

Trade Logistics Corp., 12999 SW 135th Street, Miami, FL 33186. Officer: Brenda L. Perez, Director, (Qualifying Individual).

Dama Cargo Logistics, Corp., 2759 NW 82 Avenue, Doral, FL 33122. Officer: Moraima, Baez, General Manager, (Qualifying Individual).

Woojin Global Logistics USA, Inc., 2396 E. Pacifica Place, Rancho Domingues, CA 90220. Officers: Han S. Yoo, President, (Qualifying Individual). Baik Yong, Vice President.

Keith Phillips Transportation, LLC, 124 Garden Gate Dr., Ponte Vedra Beach, FL 32082. Officers: Keith Phillips, Member, (Qualifying Individual). Ann V. Phillips, Member.

Ocean Freight Forwarder—Ocean Transportation Intermediary Applicants

Flegenheimer International, Inc., 227 W. Grand Avenue, El Segundo, CA 90245. Officer: William A. Flegenheimer, President. (Qualifying Individual).

Gold Shipping Corp., 114 Pemberton Ave., Staten Island, NY 10308. Officers: Rumiya Kalieva, President, (Qualifying Individual). Vadim Simakov, Secretary.

Tradewinds Logistics Inc., 2221 Edge Lake Drive, Ste. 185, Charlotte, NC 28217. Officers: Stephen A. Biddix, President, (Qualifying Individual). Darrelle L. Biddix, Secretary.

Clark-Mantle, Inc. dba Worldwide Cargo Specialties, 3337 West Parkway Blvd., Salt Lake City, UT 84119. Officer: Dana Ferguson, General Manager, (Qualifying Individual).

Dated: September 12, 2008.
Karen V. Gregory,
Assistant Secretary.

[FR Doc. E8-21778 Filed 9-16-08; 8:45 am]

BILLING CODE 6730-01-P